NUCLEAR REGULATORY COMMISSION

[NRC-2011-0288]

Preliminary Amendment Request Review Process

AGENCY: Nuclear Regulatory Commission.

ACTION: Draft interim staff guidance; request for comment.

SUMMARY: The U.S. Nuclear Regulatory Commission (NRC or the Commission) is issuing for use of, and to solicit public comment on, draft Interim Staff Guidance (ISG) COL-ISG-025 “Interim Staff Guidance on Changes During Construction Under 10 CFR Part 52.” This ISG provides guidance to the NRC staff on the Preliminary Amendment Request (PAR) review process available to the initial combined license (COL) holders for use as an elective precursor to the license amendment process.

DATES: Submit comments by March 26, 2012. Comments received after this date will be considered, if it is practical to do so, but the Commission is able to ensure consideration only for comments received on or before this date.

ADDRESSES: Please include Docket ID NRC-2011-0288 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0288. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

FOR FURTHER INFORMATION CONTACT: Ms. Amy E. Cubbage, Chief, Policy Branch, Division of Advance Reactors and Rulemaking, Office of New Reactors, U.S. Nuclear Regulatory Commission, Washington, DC 20555-0001; telephone: (301) 415-6332, email: Amy.Cubbage@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by email to pdr.resource@nrc.gov. The COL-ISG-025 “Interim Staff Guidance on Changes During Construction Under 10 CFR Part 52” is available electronically under ADAMS Accession Number ML111530026.

• Federal Rulemaking Web Site: Public comments and supporting materials related to this notice can be found at http://www.regulations.gov by searching on Docket ID NRC-2011-0288.

Background

The NRC staff is issuing this notice for use of, and to solicit public comments on, draft COL-ISG-025. This ISG provides guidance to the staff on the PAR review process available to the initial Title 10 of the Code of Federal Regulations (10 CFR) part 52 COL holders for use as an elective precursor to the license amendment process. The PAR process will facilitate the installation and testing of plant changes during construction. The NRC staff intends to use and evaluate the PAR change process during the construction of the initial nuclear power plants licensed under 10 CFR part 52 and finalize this ISG for inclusion in the next major revision of Regulatory Guide 1.187, “Guidance for Implementation of 10 CFR 50.59, Changes, Tests, and Experiments,” November 2000 (ADAMS Accession No. ML003759710).

Licensees may voluntarily follow the PAR process described in this draft ISG. Because the PAR process in this ISG is only in draft form, it does not represent a staff position under 10 CFR 50.109 or raise any issue finality concerns under 10 CFR part 52. For this reason, if the NRC staff makes any changes to this draft ISG when it finalizes the ISG, these changes would not constitute “new” or “different” staff positions within the meaning of the definition of “backfitting” in 10 CFR 50.109(a)(1) nor an action inconsistent with any of the issue finality provisions in 10 CFR part 52.

Dated at Rockville, Maryland, this 13th day of December 2011.
For the Nuclear Regulatory Commission.
Amy E. Cubbage,
Chief, Policy Branch, Division of Advanced Reactors and Rulemaking, Office of New Reactors.

[FR Doc. 2012-342 Filed 1-10-12; 8:45 am]

BILLING CODE 7590-01-P